DEPARTMENT OF AGRICULTURE

Rural Utilities Service

Arkansas Electric Cooperative Corporation; Notice of Availability of an Environmental Assessment

AGENCY: Rural Utilities Service, USDA.

ACTION: Notice of availability of an environmental assessment.

SUMMARY: Notice is hereby given that the Rural Utilities Service (RUS), has accepted the Environmental Impact Statement (EIS) prepared for the Arkansas Public Service Commission (APSC) as its Environmental Assessment. RUS may provide financial assistance to Arkansas Electric Cooperative Corporation (AECC) for the construction of a 153-megawatt (MW) combustion turbine electric generating station in southwest Arkansas.

FOR FURTHER INFORMATION CONTACT: Bob Quigel, Engineering and Environmental Staff, Rural Utilities Service, Stop 1571, 1400 Independence Avenue, SW, Washington, DC 20250-1571, telephone (202) 720-0468. The E-mail address is bquigel@rus.usda.gov.

SUPPLEMENTARY INFORMATION: AECC subsequent to receipt of a Certificate of Convenience and Necessity (CCN) from the APSC initiated construction of the project at a 159 acre site east of Fulton, Arkansas. Fulton is located in Hempstead County. The CCN (Order No. 7) for the generating station was issued on November 18, 1999. The CCN (Order No. 3) for the transmission line was issued on May 9, 2000.

The project, when completed, will initially consist of a single 153 MW gas-fired, simple-cycle combustion turbine generating unit. Other on-site facilities include a 90-foot exhaust stack, step-up and auxiliary transformers, motor control centers, bus ductwork, an electric substation, and control, maintenance, and operations buildings. The project also includes 4 miles of 115 kV transmission line that will tie the station to the existing transmission grid. The transmission line will be built to 161 kV specifications in anticipation that additional transmission line capacity may be needed in the future.

The facility is designed to accommodate conversion of the unit to combined cycle operation, but will be initially operated as a simple cycle unit. The site has been sized to accommodate additional simple or combined cycle units. However, the environmental assessment announced herein will cover only the initial 153 MW simple cycle unit and related electric transmission line. Only those facilities are being considered for RUS financial assistance.

The only alternative to providing financial assistance to AECC for the construction of the subject project being considered by RUS would be to take no action, therefore, not provide financial assistance.

An EIS for the proposed generating station was submitted by AECC to the APSC on July 1, 1999. Information on the proposed transmission line was submitted to the APSC on February 15, 2000. RUS has independently evaluated the information contained in both submittals to the APSC and believes that it accurately assesses the environmental impacts of the project. In accordance with the provisions of §§ 1794.53 and 1794.74 of RUS” Environmental Policies and Procedures, the information referenced above will serve as RUS” environmental assessment for this project.

The environmental assessment can be reviewed at the AECC headquarters located at 8000 Scott Hamilton Drive, Little Rock, Arkansas (501-570-2462). This document will also be available for public inspection at the Hempstead County Library, 500 South Elm Street, Hope, Arkansas (870-777-4564). It can also be reviewed at the headquarters of RUS at the address provided previously.

Questions and comments should be sent to RUS at the address provided. RUS will accept questions and comments on its proposed action for at least 30 days from the date of publication of this notice.

RUS will take no final action related to the project until after notification of that action is published in the Federal Register and in the same newspapers that this notice is being published.

Dated: November 16, 2000.
Lawrence R. Wolfe,
Acting Director, Engineering and Environmental Staff.

[FR Doc. 00-30098 Filed 11-24-00; 8:45 am]

BILLING CODE 3410-15-P